DEPARTMENT OF THE INTERIOR

Bureau of Reclamation

[G63-0982-9832-100-96-76, 84-55000]

Quarterly Status Report of Water Service, Repayment, and Other Water-Related Contract Actions

AGENCY: Bureau of Reclamation, Interior.

ACTION: Notice.

SUMMARY: Notice is hereby given of contractual actions that have been proposed to the Bureau of Reclamation (Reclamation) and are new, modified, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Please use the first quarter notice, 78 FR 21969, dated April 12, 2013, as a reference. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

LCWSP Lower Colorado Water Supply Project

M&I Municipal and Industrial

NMISC New Mexico Interstate Stream Commission

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

Completed contract actions:

6. West Extension ID, Umatilla Project, Oregon: Contract action for long-term boundary expansion to include lands outside federally recognized District boundaries. Executed via letter on July 18, 2013.

15. Junction City Water Control District, Willamette River Basin Project, Oregon: Irrigation water service contract for approximately 8,000 acre-feet of project water.

Mid-Pacific Region: Bureau of Reclamation, 2800 Cottage Way, Sacramento, California 95825-1898, telephone 916-978-5250.

New contract actions:

58. U.S. Fish and Wildlife Service, Tulelake ID; Klamath Project; Oregon and California: Water service contract for deliveries to Lower Klamath National Wildlife Refuge, including transfer of O&M responsibilities for the P Canal system.

59. Tulelake ID, Klamath Project, Oregon and California: Amendment of repayment contract to eliminate reimbursement for P Canal O&M costs.

60. East Bay Municipal Utility District, CVP, California: Long-term Warren Act contract for storage and conveyance of up to 47,000 acre-feet annually.

61. Sacramento County Water Agency, CVP. California: Assignment of 7,000 acre-feet of CVP water to the City of Folsom.

Completed contract action:

27. Cawelo WD, CVP, California: Long-term Warren Act contract for conveying up to 20,000 acre-feet annually of previously banked nonproject water in the Friant-Kern Canal. Executed on June 13, 2013.

Lower Colorado Region: Bureau of Reclamation, P.O. Box 61470 (Nevada Highway and Park Street), Boulder City, Nevada 89006-1470, telephone 702-293-8192.

New contract actions:

18. San Carlos Apache Tribe and the Town of Gilbert, CAP, Arizona: Execute Amendment No. 3 to a CAP water lease to extend the term of the lease in order for the San Carlos Apache Tribe to lease 20,000 acre-feet of its CAP water to the Town of Gilbert during the calendar year 2014.

19. Fort McDowell Yavapai Nation and the Town of Gilbert, CAP, Arizona: Execute Amendment No. 3 to a CAP water lease to extend the term of the lease from January 1, 2014, to December 31, 2014, and increase the quantity leased from 13,683 to 13,933 acre-feet. The lease is for Fort McDowell Yavapai Nation's CAP water to be leased to the Town of Gilbert.

20. Bard WD, Yuma Project, California: Supersede and replace the Bard WD O&M contract for the Yuma Project, California, Reservation Division, Indian Unit, to reflect that appropriated funds are no longer available, and to specify an alternate process for transfer of funds. In addition, other miscellaneous processes required for Reclamation's contractual administration and oversight will be updated to ensure the Federal Indian Trust obligation for reservation water and land are met.

Completed contract actions:

12. ASARCO and Central Arizona Water Conservation District, CAP, Arizona: Amend ASARCO's CAP water delivery subcontract to allow for direct delivery as well as exchange. Executed on August 21, 2013.

16. Ak-Chin Indian Community and Pascua Yaqui Tribe, CAP, Arizona: Proposed water lease for 1,000 acre-feet per year for 5 years. Executed on July 30, 2013.

Discontinued contract action:

9. Cha Cha, LLC, BCP, Arizona: Proposed amendment to a contract exhibit to delete reference to specific irrigated acres.

Upper Colorado Region: Bureau of Reclamation, 125 South State Street, Room 6107, Salt Lake City, Utah 84138-1102, telephone 801-524-3864.

New contract actions:

30. Jensen Unit, CUP, Utah: The Uintah Water Conservancy District has requested to renew a temporary water service contract with the United States for use of the 3,300 acre-feet of Jensen Unit M&I water during the 2013 water year.

31. Pinnacle Potash International, Flaming Gorge, CRSP, Utah: Pinnacle Potash International has requested a water service agreement for up to 20,000 acre feet of M&I water out of Flaming Gorge for potash mining at a place near Crescent Junction, Utah.

32. Navajo-Gallup Water Supply Project, New Mexico: Reclamation continues negotiations on an operations, maintenance and replacement transfer contract with the Navajo Tribal Utility Authority pursuant to Public Law 111-11, Section 10602(f) which transfers responsibilities to carry out the OM&R of transferred works of the Project; ensures the continuation of the intended benefits of the Project, distribution of water, and sets forth the allocation and payment of annual OM&R costs of the Project.

33. Florida Project, Colorado: The United States and the Florida Water Conservancy District, pursuant to Section 4 of the CRSP, and subsection 9(c)(2) of the Reclamation Projects Act of 1939, propose to negotiate and execute a water service contract for 2,500 acre-feet of Florida Project water for M&I and other miscellaneous beneficial uses, other than commercial agricultural irrigation, within the district boundaries in La Plata County, Colorado.

Modified contract actions:

3. Various Contactors, San Juan-Chama Project, New Mexico: The United States continues leasing water from various project contractors to stabilize flows in a critical reach of the Rio Grande in order to meet the needs of irrigators and preserve habitat for the silvery minnow. Reclamation leased approximately 53,000 acre-feet of water from willing lessors in 2013.

4. Individual Irrigators, Carlsbad Project, New Mexico: The United States proposes to continue entering into forbearance contracts and lease agreements with individuals who have privately held water rights to divert nonproject water either directly from the Pecos River or from shallow/artesian wells in the Pecos River Watershed. Reclamation contracted with Fort Sumner ID for partial and full-season fallowing in 2013. This action resulted in additional water in the Pecos River to make up for the water depletions caused by changes in operations at Sumner Dam which were made to improve conditions for a threatened species, the Pecos Bluntnose Shiner.

10. Jensen Unit, Central Utah Project, Utah: The Uintah Water Conservancy District has requested a contract with provisions to prepay 2,675 acre-feet of the 3,300 acre-feet of project M&I water from Red Fleet Reservoir.

12. Albuquerque Bernalillo County Water Utility Authority and Reclamation, San Juan-Chama Project, New Mexico: Contract to store up to 50,000 acre-feet of project water in Elephant Butte Reservoir. The proposed contract would have a 40-year maximum term, which due to ongoing consultations with the U.S. Fish and Wildlife Service, the existing Contract No. 3-CS-53-01510 which expired on January 26, 2008, has been extended annually. The Act of December 29, 1981, Public Law 97-140, 95 Stat. 1717 provides authority to enter into this contract. Reclamation is conducting environmental compliance to proceed with the 40-year contract. In the interim, Reclamation continues to execute annual renewals until a long-term contract can be executed.

21. Animas-La Plata Project, Colorado-New Mexico: (a) Navajo Nation title transfer agreement for the Navajo Nation Municipal Pipeline for facilities and land outside the corporate boundaries of the City of Farmington, New Mexico; contract terms to be consistent with the Colorado Ute Settlement Act Amendments of 2000 (Title III of Pub. L. 106-554) and the Northwestern New Mexico Rural Water Projects Act (Title X of Pub. L. 111-11); (b) City of Farmington, New Mexico, title transfer agreement for the Navajo Nation Municipal Pipeline for facilities and land inside the corporate boundaries of the City of Farmington; New Mexico, contract terms to be consistent with the Colorado Ute Settlement Act Amendments of 2000 (Title III of Pub. L. 106-554) and the Northwestern New Mexico Rural Water Projects Act (Title X of Pub. L. 111-11); and (c) Operations agreement among the United States, Navajo Nation, and City of Farmington for the Navajo Nation Municipal Pipeline pursuant to Public Law 111-11, Section 10605(b)(1) that sets forth any terms and conditions that secures an operations protocol for the M&I water supply.

Completed contract action:

28. Blue Cut Mitigation Project and Emery County Project, Utah: Reclamation has proposed an exchange under which it would provide an augmentation to flows in the San Rafael River to the Fish and Wildlife Service in exchange for the Fish and Wildlife Service transferring water right No. 93-2241 to Reclamation, Emery County Project. Reclamation will enter into a water service contract with the Cottonwood Creek Consolidated Irrigation Company for approximately 2,300 acre-feet of water.

Great Plains Region: Bureau of Reclamation, P.O. Box 36900, Federal Building, 2021 4th Avenue North, Billings, Montana 59101, telephone 406-247-7752.

New contract actions:

50. Altus Dam, W.C. Austin Project: Consideration of a contract for repayment of SOD costs.

51. Bull Lake Dam, Riverton Unit, P-SMBP: Consideration of a contract for repayment of SOD costs.

52. Twin Lakes Dam, Fryingpan-Arkansas Project: Consideration of a contract action for repayment of SOD costs.

53. Pugsley Ranches, Inc., Lower Marias Unit, P-SMBP, Montana. Intent to enter into a long-term water service contract for up to 144.2 acre-feet of water per year from storage in Lake Elwell.

54. John and Donna Vandenacre, Canyon Ferry Unit, P-SMBP, Montana. Renewal of long-term water service contract for up to 562.5 acre-feet of water from storage in Canyon Ferry Reservoir.

55. Helena Valley ID; Helena Valley Unit, P-SMBP; Montana: Amendment to the repayment contract to allow for delivery of water for M&I purposes within the District boundaries of up to 10,000 acre feet.

56. Savage ID; Savage Unit, P-SMBP; Montana. Intent to enter into a repayment contract to provide for a long term-water supply.

57. Nelson Dikes, Milk River Project: Consideration of contract(s) for repayment of SOD costs.

Modified contract actions:

30. Purgatoire Water Conservancy District, Trinidad Project, Colorado: Consideration of a request to execute an amendatory contract.

44. Central Oklahoma Master Conservancy District, Norman Project, Oklahoma: Amend existing contract No. 14-06-500-590 or execute a separate contract(s) to allow for importation and storage of nonproject water in accordance with the Lake Thunderbird Efficient Use Act of 2012.

47. Cornwell Ranch, Milk River Project, Montana: Consideration of a request to enter into a new long-term Warren Act excess capacity contract for conveyance on nonproject water.

Completed contract actions:

4. Ruedi Reservoir, Fryingpan-Arkansas Project, Colorado: Proposed repayment contracts for the remaining water from the regulatory capacity of Ruedi Reservoir. Executed on September 5, 2013.

20. Northern Colorado Water Conservancy District, Colorado-Big Thompson Project, Colorado: Supplement to contract No. 9-07-70-W0020 to allow Northern Colorado Water Conservancy District to contract for delivery of 5,412.5 acre-feet of water annually out of Lake Granby to the 15-Mile Reach. Executed on July 23, 2013.

32. F. Clarke Jackman Jr., Boysen Unit, P-SMBP, Wyoming: Renewal of a long-term water service contract. Executed on July 16, 2013.

33. Gregory and Margaret Lungren, Boysen Unit, P-SMBP, Wyoming: Renewal of a long-term water service contract. Executed on July 16, 2013

41. East Bench ID, East Bench Unit, Three Forks Division, P-SMBP, Montana: Consideration of a contract amendment, pursuant to Public Law 112-139, to extend the term of contract No. 14-06-600-3593 through December 31, 2013. Executed on August 14, 2013.

Dated: September 27, 2013.
Roseann Gonzales,
Director, Policy and Administration.

[FR Doc. 2013-28760 Filed 11-29-13; 8:45 am]

BILLING CODE 4310-MN-P